DEPARTMENT OF TRANSPORTATION

Federal Motor Carrier Safety Administration

49 CFR Part 392

[Docket No. FMCSA-2006-25660]

RIN 2126-AB04

Railroad-Highway Grade Crossing; Safe Clearance; Public Meeting

AGENCY: Federal Motor Carrier Safety Administration (FMCSA), DOT.

ACTION: Notice of public meeting.

SUMMARY: The FMCSA announces that a public meeting will be held to discuss the problem of railroad-highway grade crossing crashes in which a commercial motor vehicle (CMV) is struck by a train because the driver of the CMV, for whatever reason, stops the vehicle prior to clearing the railroad track. The meeting is intended to promote the sharing of information between interested parties and FMCSA, the Federal Highway Administration (FHWA), and the Federal Railroad Administration (FRA) to ensure motor carriers and drivers are prepared to achieve full compliance with a forthcoming, statutorily mandated Federal rule to prohibit drivers from entering a railroad grade crossing unless there is sufficient room to clear the tracks completely without stopping. The meeting will provide all interested parties with an opportunity to voice their concerns about the potential costs and safety benefits of such a rule.

DATES: The meeting will be held on Wednesday, September 20, 2006, from 9:30 a.m. to 4:30 p.m. Individuals who wish to make a formal presentation must contact Ms. Ryan Thompson at (703) 934-3432 or e-mail her at rthompson@icfi.com no later than 5 p.m., e.t., September 15, 2006. Comments to the docket should be submitted no later than October 20, 2006.

ADDRESSES: The meeting will be held in Room 2230, Nassif Building, DOT Headquarters, 400 Seventh Street, SW., Washington, DC 20590. You may also submit comments to the DOT Docket Management System (DMS), referencing Docket Number FMCSA-2006-25660, using any of the following methods:

• Web Site: http://dmses.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the Agency name and docket numbers for this notice. Note that all comments received will be posted without change to http://dms.dot.gov, including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want us to notify you that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Mr. Thomas Yager, Driver and Carrier Operations, Office of Bus and Truck Standards and Operations, (202) 366-4009, Federal Motor Carrier Safety Administration (MC-PSD), 400 Seventh Street, SW., Washington, DC 20590; or MCPSD@dot.gov. Office hours are from 7:45 a.m. to 4:15 p.m., e.t., Monday through Friday, except Federal holidays.

Information on Services for Individuals with Disabilities: For information on facilities or services for individuals with disabilities or to request special assistance at the meeting, contact Tom Yager at 202-366-4009.

SUPPLEMENTARY INFORMATION:

Background

On July 30, 1998, the FHWA published a notice of proposed rulemaking (NPRM) (63 FR 40691) to prohibit CMV operators from driving onto a railroad grade crossing without having sufficient space to drive completely through without stopping, thus leaving a portion of the CMV across the tracks. The rulemaking was required by section 112 of the Hazardous Materials Transportation Authorization Act of 1994 (HMTAA) (Pub. L. 103-311, 108 Stat. 1673, at 1676, August 26, 1994).

As stated in the report by the Senate Committee on Commerce, Science, and Transportation (December 9, 1993), the goal of the provision in Senate Bill 1640, which later became section 112, was to: “* * * improve safety at highway-railroad crossings in response to fatalities that have occurred from accidents involving commercial motor vehicle operators who failed to use proper caution while crossing * * * [T]he Committee believes that imposing a Federal statutory obligation on drivers of all commercial motor vehicles to consider whether they can cross safely and completely * * * will help to reduce the number of tragedies associated with grade-crossing accidents” [S. Rep. No. 103-217, at 11 (1994), reprinted in 1994 U.S.C.C.A.N. 1763, 1773].

The FHWA asked the States for information on the number and location of highway-railroad grade crossings with inadequate storage space ¹—and on alternative crossings—as the first step in estimating the costs and benefits of the rule required by section 112. Many State agencies, however, assumed that they were required to provide the information. State agencies were concerned that a potential rule would require them to reconstruct, rewire, reroute, or otherwise correct every inadequate crossing and that FHWA was indifferent to the costs of such an undertaking. In fact, the time, difficulty, and cost involved in collecting reliable data on highway-railroad grade crossings became a primary focus of the comments in that rulemaking proceeding.

¹ Inadequate storage space means the roadway is too short in length on the opposite side of the railroad tracks to allow the vehicle to stand or wait to proceed at the traffic control device (e.g., traffic signal or stop sign) on that side. For example, the storage space of a particular highway-railroad grade crossing near a highway intersection measures 50 feet in length between the stopping line marker on the pavement at the traffic signal of the highway intersection and the railroad's grade crossing gate. A CMV driver is operating a tractor-trailer combination measuring 65 feet in overall length. Thus, the storage space of 50 feet is inadequate to accommodate a tractor-trailer combination measuring more than 50 feet in length.

Therefore, on April 28, 2006 (71 FR 25128), FMCSA withdrew the 1998 NPRM, and will soon initiate a new rulemaking, less burdened by previous misunderstandings, to implement section 112 of HMTAA. An NPRM to address the requirements of section 112 will be published when a current, on-going study of grade crossing crashes associated with the CMV stopping prior to clearing the tracks completely has been completed.

The FMCSA believes that holding a public meeting before publishing the NPRM will be helpful for the Agency and stakeholders. The public meeting will establish dialogue among Federal and State agencies, motor and rail carriers, safety advocacy groups, and other interested parties concerning practical approaches for reducing the incidence of CMV crashes with trains because the driver of the CMV, for whatever reason, stops the vehicle before clearing the railroad track.

Meeting Information

The meeting will be held from 9:30 a.m. to 4:30 p.m., e.t., on Wednesday, September 20, 2006, in Room 2230, Nassif Building, 400 Seventh Street, SW., Washington, DC. Because access to the DOT building is controlled, all visitors must sign in with the security office located at the southwest entrance of the building, present identification with a picture on it, be escorted, and wear a visitor's badge at all times while in the building.

Individuals who wish to make a formal presentation must contact Ms. Ryan Thompson at (703) 934-3432 or e-mail her at rthompson@icfi.com no later than 5 p.m., e.t., September 15, 2006, to ensure that sufficient time is allotted for the presentation and to identify any audio-visual equipment needed for the presentation.

Individuals who are unable to attend the meeting may submit written comments to the docket identified at the beginning of this notice.

Issued on: August 25, 2006.
David H. Hugel,
Deputy Administrator.

[FR Doc. E6-14462 Filed 8-29-06; 8:45 am]

BILLING CODE 4910-EX-P